DEPARTMENT OF THE INTERIOR

National Park Service

[NPS-WASO-NRNHL-25117; PPWOCRADI0, PCU00RP14.R50000]

National Register of Historic Places; Notification of Pending Nominations and Related Actions

AGENCY: National Park Service, Interior.

ACTION: Notice.

SUMMARY: The National Park Service is soliciting comments on the significance of properties nominated before February 24, 2018, for listing or related actions in the National Register of Historic Places.

DATES: Comments should be submitted by March 29, 2018.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before February 24, 2018. Pursuant to § 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

CALIFORNIA

San Francisco County

San Francisco Central YMCA, 220 Golden Gate Ave., San Francisco, SG100002287

Santa Clara County

Messina Orchard, 721-781 N. Capitol Ave., San Jose, SG100002288

DISTRICT OF COLUMBIA

District of Columbia

Lafayette Elementary School, (Public School Buildings of Washington, DC MPS), 5701 Broad Branch Rd. NW, Washington, MP100002290

FLORIDA

Dade County

Giller Building, 975 W 41st St., Miami Beach, SG100002291

Lincoln Memorial Park Cemetery, 3001 NW 46th St, Miami, SG100002292

Miami Marine Stadium, 3501 Rickenbacker Causeway, Miami, SG100002293

Publix Store No. 91, 1045 Dade Blvd., Miami Beach, SG100002294

NEW HAMPSHIRE

Grafton County

Boulderwood, (Squam MPS), Address Restricted, Holderness, MP100002300

NEW MEXICO

Rio Arriba County

Haynes Trading Post Site, (Historical-Period Rural Landscape of Upper Largo Canyon, Rio Arriba County, New Mexico 1829-1943 MPS), Address Restricted, Counselor vicinity, MP100002301

A request for removal has been made for the following resource:

PENNSYLVANIA

Greene County

Red, Neils, Covered Bridge, (Covered Bridges of Washington and Greene Counties TR), E of Garards Fort crossing Whiteley Creek, Greene Township, Garads Fort vicinity, OT79003817

A request to move has been received for the following resource:

SOUTH DAKOTA

Codington County

Olive Place, N of Watertown off U.S. 81, Watertown vicinity, MV78002547

Nominations submitted by Federal Preservation Officers:

The State Historic Preservation Officer reviewed the following nominations and responded to the Federal Preservation Officer within 45 days of receipt of the nominations and supports listing the properties in the National Register of Historic Places.

CALIFORNIA

Marin County

Olema Valley Dairy Ranches Historic District, Point Reyes NS & Golden Gate NRA, Olema vicinity, SG100002286

COLORADO

Gilpin County

Bain Cabin, 501 Shoshoni Camp Rd., Rollinsville vicinity, SG100002289

IDAHO

Idaho County

Gardiner Peak Lookout, (L-4 Fire Lookouts in the USFS Northern Region (Region 1), 1932-1967 MPS), Gardiner Peak, West Fork District, Bitterroot NF,Darby (MT) vicinity, MP100002295

Salmon Mountain Lookout, (L-4 Fire Lookouts in the USFS Northern Region (Region 1), 1932-1967 MPS), Salmon Mtn., West Fork District, Bitterroot NF, Darby (MT) vicinity, MP100002296

MONTANA

Ravalli County

Gird Point Lookout, (L-4 Fire Lookouts in the USFS Northern Region (Region 1), 1932-1967 MPS), Gird Pt., Sapphire Mts., Bitterroot NF, Hamilton vicinity, MP100002297

Medicine Point Lookout (L-4 Fire Lookouts in the USFS Northern Region (Region 1), 1932-1967 MPS), Medicine Pt., Sula Ranger Dist., Bitterroot NF, Darby vicinity, MP100002298

St. Mary Peak Lookout, (L-4 Fire Lookouts in the USFS Northern Region (Region 1), 1932-1967 MPS), St. Mary Peak, Stevensville Ranger Dist., Bitterroot NF, Stevensville vicinity, MP100002299

Authority: Section 60.13 of 36 CFR part 60

Dated: February 26, 2018.
J. Paul Loether,
Chief, National Register of Historic Places/National Historic Landmarks Program and Keeper, National Register of Historic Places.

[FR Doc. 2018-05132 Filed 3-13-18; 8:45 am]

BILLING CODE 4312-52-P